DEPARTMENT OF THE TREASURY

Internal Revenue Service

26 CFR Part 1

[REG-109006-11]

RIN 1545-BK13

Modifications of Certain Derivative Contracts; Correction

AGENCY: Internal Revenue Service (IRS), Treasury.

ACTION: Correction to notice of proposed rulemaking by cross-reference to temporary regulations.

SUMMARY: This document contains corrections to a notice of proposed rulemaking by cross-reference to temporary regulations (REG-109006-11) relating to whether an exchange for purposes of § 1.1001-1(a) occurs for the nonassigning counterparty when there is an assignment of certain derivative contracts. It was published in the Federal Register on Friday, July 22, 2011 (76 FR 43957).

FOR FURTHER INFORMATION CONTACT: Concerning the proposed regulations, Andrea M. Hoffenson, (202) 622-3920 (not a toll-free number).

SUPPLEMENTARY INFORMATION:

Background

The correction notice that is the subject of this document is under section 1001 of the Internal Revenue Code.

Need for Correction

As published, the notice of proposed rulemaking by cross-reference to temporary regulations (REG-109006-11) contains errors that may prove to be misleading and are in need of clarification.

Correction of Publication

Accordingly, the publication of the notice of proposed rulemaking by cross-reference to temporary regulations (REG-109006-11), which was the subject of FR Doc. 2011-18531, is corrected as follows:

1. On page 43957, column 2, in the preamble, under the caption FOR FURTHER INFORMATION CONTACT:, second line, the language “Andrea Hoffenson, (202) 622-3920” is corrected to read “Andrea M. Hoffenson, (202) 622-3920;”.

2. On page 43957, column 4, in the preamble, under the paragraph heading “Drafting Information”, third line, the language “Office of Associate Chief Council” is corrected to read “Office of Associate Chief Counsel”.

LaNita Van Dyke,
Chief, Publications and Regulations Branch, Legal Processing Division, Associate Chief Counsel (Procedure and Administration).

[FR Doc. 2011-21182 Filed 8-18-11; 8:45 am]

BILLING CODE 4830-01-P